Title 3—

The President

Proclamation 7434 of May 7, 2001

Asian/Pacific American Heritage Month, 2001

By the President of the United States of America

A Proclamation

As we move into the 21st century, the United States continues to greatly benefit from the contributions of its diverse citizenry. Among those who have influenced our country, Asian/Pacific Americans merit special recognition. Their achievements have greatly enriched our quality of life and have helped to determine the course of our Nation's future.

Many immigrants of Asian heritage came to the United States in the nineteenth century to work in the agricultural and transportation industries. Laboring under very difficult conditions, they helped construct the western half of the first transcontinental railroad. Their hard work was invaluable in linking together the East and West coasts, thus vastly expanding economic growth and development across the country. Over time, other immigrants journeyed to America from East Asia, Southeast Asia, and the Asian Subcontinent. Today, Asian/Pacific Americans are one of the fastest growing segments of our population, having increased in number from fewer than 1.5 million in 1970 to approximately 10.5 million in 2000.

Asian/Pacific Americans bring to our society a rich cultural heritage representing many languages, ethnicities, and religious traditions. Whether in government, business, science, technology, or the arts, Asian/Pacific Americans have added immeasurably to the prosperity and vitality of our society. As family members, citizens, and involved members of the community, they reinforce the values and ideals that are essential to the continued well-being of our Nation.

Diversity represents one of our greatest strengths, and we must strive to ensure that all Americans have the opportunity to reach their full potential. By recognizing the accomplishments and contributions of Asian/Pacific Americans, our Nation celebrates the importance of inclusion in building a brighter future for all our citizens.

To honor the achievements of Asian/Pacific Americans, the Congress, by Public Law 102-450, has designated the month of May each year as “Asian/Pacific American Heritage Month.”

NOW, THEREFORE, I, GEORGE W. BUSH, President of the United States of America, by virtue of the authority vested in me by the Constitution and the laws of the United States, do hereby proclaim May 2001, as Asian/Pacific American Heritage Month. I call upon the people of the United States to learn more about the contributions and history of Asian/Pacific Americans and to celebrate the role they have played in our national story.

IN WITNESS WHEREOF, I have hereunto set my hand this seventh day of May, in the year of our Lord two thousand one, and of the Independence of the United States of America the two hundred and twenty-fifth.

B

[FR Doc. 01-11913

Filed 5-9-01; 8:45 am]

Billing code 3195-01-P